DEPARTMENT OF TRANSPORTATION

Federal Aviation Administration

14 CFR Part 71

[Docket No. FAA-2004-17136; Airspace Docket No. 04-AGL-08]

Modification of Class D Airspace; Camp Douglas, WI; Correction

Correction

In rule document 04-27090 appearing on page 71701 in the issue of Friday, December 10, 2004, make the following correction:

§71.1 [Corrected]

In the second column, in §71.1, after amendatory paragraph 1, in the next paragraph, in the fourth line, “Volk Field 100°” should read “Volk Field 110°”.

[FR Doc. C4-27090 Filed 12-17-04; 8:45 am]

BILLING CODE 1505-01-D